DEPARTMENT OF AGRICULTURE

Forest Service

Information Collection; Social and Cultural Structure of Private Forestry

AGENCY: Forest Service, USDA.

ACTION: Notice; request for comment.

SUMMARY: In accordance with the Paperwork Reduction Act of 1995, the Forest Service is seeking comments from all interested individuals and organizations on the new information collection; Social and Cultural Structure of Private Forestry.

DATES: Comments must be received in writing on or before December 24, 2007 to be assured of consideration. Comments received after that date will be considered to the extent practicable.

ADDRESSES: Comments concerning this notice should be addressed to John Schelhas, Southern Research Station, USDA Forest Service, 112 Campbell Hall, Tuskegee University, Tuskegee, AL 36088.

Comments also may be submitted via facsimile to (334) 724-4451 or by e-mail to: jschelhas@fs.fed.us.

The public may inspect comments received at 204 Campbell Hall, Tuskegee University, Tuskegee, AL during normal business hours. Visitors are encouraged to call ahead to (334) 727-8131 to facilitate entry to the building.

FOR FURTHER INFORMATION CONTACT: John Schelhas, Southern Research Station, USDA Forest Service, 334-727-8131. Individuals who use TDD may call the Federal Relay Service (FRS) at 1-800-877-8339, 24 hours a day, every day of the year, including holidays.

SUPPLEMENTARY INFORMATION: Title: Social and Cultural Structure of Private Forestry

OMB Number: 0596-NEW.

Expiration Date of Approval:

Type of Request: New.

Abstract: Non-industrial private forests constitute the majority of the forest in the South, and provide many important public and private benefits. These benefits are enhanced when landowners receive professional forestry assistance, though very few landowners seek assistance or have written management plans for their forests. This problem is particularly acute for minority forest landowners. This study will use ethnographic methods to learn about social and cultural aspects of forest landowner decision-making; in particular, forest values and identities, social networks for information flows, and actual forest management practices. The information gathered will contribute to scientific papers presented at professional meetings and in publications. The data will also assist in the development of new materials and techniques for outreach to forest managers by government, nonprofit, and private forester and natural resource managers.

Face-to-face interviews with 200 forest landowners (100 per year) will occur at three sites in the South. A team of researchers from the Southern Research Station, USDA Forest Service and the College of Agricultural, Environmental, and Natural Sciences, Tuskegee University will conduct the interviews and analyze the data collected. The information collected includes: (1) Responses to “twenty statements test” to measure identity; (2) social networks utilized to acquire forest management information; (3) life histories with regard to land ownership and forest management; (4) demographic data; and (5) land use and forest management practices.

The information will be collected only once from each landowner. If the information is not collected, federal, state, and private efforts to promote improved forest management to provide benefits for landowners and society will be less successful.

Estimate of Annual Burden: 2 hours.

Type of Respondents: Forest landowners.

Estimated Annual Number of Respondents: 100.

Estimated Annual Number of Responses per Respondent: Once.

Estimated Total Annual Burden on Respondents: 200 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: October 16, 2007.
Jimmy L. Reaves,
Associate Deputy Chief, Research & Development.

[FR Doc. E7-20868 Filed 10-23-07; 8:45 am]

BILLING CODE 3410-11-P